DEPARTMENT OF THE INTERIOR

Fish and Wildlife Service

[FWS-R8-NWRS-2018-N130; FXRS282108E8PD0-190-F2013227943]

South Bay Salt Pond Restoration Project, Phase 2; Don Edwards National Wildlife Refuge, California; Record of Decision for Final Environmental Impact Statement/Environmental Impact Report

AGENCY: Fish and Wildlife Service, Interior.

ACTION: Notice of availability; record of decision.

SUMMARY: We, the U.S. Fish and Wildlife Service, and the California State Coastal Conservancy, announce the availability of the record of decision (ROD) for the Don Edwards National Wildlife Refuge—Phase 2 of the South Bay Salt Pond Restoration Project final environmental impact statement/environmental impact report. The ROD explains that the selected alternative is the environmentally preferred alternative.

ADDRESSES:

Document Availability: The ROD is available at the following places:

Internet: http://www.southbayrestoration.org/planning/phase2/.

In Person: San Francisco Bay National Wildlife Refuge Complex Headquarters, 1 Marshlands Rd., Fremont, CA 94555.

FOR FURTHER INFORMATION CONTACT: Chris Barr, Deputy Project Leader, 510-792-0222 (phone), or chris_barr@fws.gov.

SUPPLEMENTARY INFORMATION: We, the U.S. Fish and Wildlife Service (Service), and the California State Coastal Conservancy, announce the availability of the record of decision (ROD) for the final environmental impact statement/environmental impact report (EIS/EIR) for Phase 2 of the South Bay Salt Pond Restoration Project (SBSP) at the Don Edwards National Wildlife Refuge. The ROD explains that the selected alternative is the environmentally preferred alternative.

Background

In December 2007, the USFWS and the California Department of Fish and Wildlife (CDFW) published a Final EIS/EIR for the SBSP Restoration Project at the Don Edwards San Francisco Bay National Wildlife Refuge (Refuge) and the CDFW Eden Landing Ecological Reserve (December 19, 2007; 72 FR 71937). The overall south bay salt pond restoration area includes 15,100 acres, which the USFWS and the CDFW acquired from Cargill, Inc., in 2003. The lands acquired from Cargill are divided into three pond complexes: The Ravenswood Pond Complex, in San Mateo County, managed by the USFWS; the Alviso Pond complex, also managed by the USFWS, which is mostly in Santa Clara County, with five ponds in Alameda County; and the Eden Landing Pond Complex, in Alameda County, which is owned and managed by the CDFW. The SBSP Restoration Project presented in the Final EIS/EIR was both programmatic, covering a 50-year period, and project-level, addressing the specific components and implementation of Phase 1.

In January 2008, we signed a Record of Decision selecting the Tidal Emphasis Alternative (Alternative C) for implementation. This alternative will result in 90 percent of the USFWS's ponds on the Refuge being restored to tidal wetlands and 10 percent converted to managed ponds. Under Phase 1 of Alternative C, we restored ponds E8A, E8X, E9, E12, and E13 at the Eden Landing complex; A6, A8, A16, and A17 at the Alviso complex; and SF2 at the Ravenswood complex. We also added several trails, interpretive features, and other recreational access points. Construction was completed on the USFWS ponds in 2013.

Project

The SBSP Phase 2 project site is located on the following three geographically separate pond clusters: the Ravenswood Pond Complex (R3, R4, R5, and S5), the Alviso Pond Complex-Mountain View Ponds (A1 and A2W), the Alviso Pond Complex-A8 Ponds (A8 and A8S), and the Alviso Pond Complex-Island Ponds (A19, A20, and A21). These pond clusters are illustrated in Figures 1-5 on the SBSP Restoration Project website at http://www.southbayrestoration.org/planning/phase2/.

Phase 2 of the SBSP Restoration Project will restore and enhance over 2,000 acres of tidal wetlands and managed pond habitats in South San Francisco Bay while providing for flood management and wildlife-oriented public access and recreation. On June 3, 2016, we announced the availability of the Final EIS/EIR for Phase 2 (81 FR 35790).

Alternatives

We analyzed a range of alternatives in the Final EIS/EIR, including No Action Alternatives for each group of ponds. The range of alternatives included varying approaches to restoring tidal marshes (including number and location of breaches and other levee modifications), habitat enhancements (islands, transition zones, and channels), modifications to existing levees and berms to maintain or improve flood protection, and recreation and public access components (including trails, boardwalks, and viewing platforms) which correspond to the project objectives.

The alternatives for each group of ponds, or pond cluster, are described briefly below. The no-action alternatives are described together, followed by the action alternatives that were considered for each pond cluster.

Alviso-Island Ponds, Alviso-Mountain View Ponds, Alviso-A8 Ponds, and Ravenswood Ponds—Alternatives A (No Action)

Under Alternatives Island A, Mountain View A, A8 A, and Ravenswood A (the no-action alternative at each of these pond clusters), no new activities would be implemented as part of Phase 2. The pond clusters would continue to be monitored and managed through the activities described in the Adaptive Management Plan (AMP) and in accordance with current USFWS practices.

Alviso Island Ponds

Alternative Island B

Alternative Island B would breach Pond A19's northern levee and remove or lower levees between Ponds A19 and A20 to increase connectivity and improve the ecological function of both ponds.

Alternative Island C

Alternative Island C would include the components of Alternative Island B with the addition of levee breaches on the north sides of Ponds A20 and A21, lowering of portions of levees around Pond A20, pilot channels in Pond A19, and widening the existing breaches on the southern levee of Pond A19.

Alviso-Mountain View Ponds

Alternative Mountain View B

Under Alternative Mountain View B, Ponds A1 and A2W levees would be breached at several points to introduce tidal flow in the ponds. Portions of Pond A1's western levee would be built up to maintain current levels of flood protection provided by the pond itself. Habitat transition zones and habitat islands would be constructed in the ponds to increase habitat complexity and quality for special-status species. A new trail and viewing platform would be installed to improve recreation and public access at these ponds.

Alternative Mountain View C

Under Alternative Mountain View C, levees would be breached and lowered to increase tidal flows in Pond A1, Pond A2W, and Charleston Slough. The inclusion of Charleston Slough (by breaching and lowering much of Pond A1's western levee) is the primary distinguishing feature between Alternative Mountain View B and Alternative Mountain View C. Several additional new trails and viewing platforms would be installed or replaced to improve recreation and public access at the pond cluster. To continue providing water to the City of Mountain View's Shoreline Park sailing lake, a new water intake would be constructed at the proposed breach between Pond A1 and Charleston Slough.

Alviso-A8 Ponds

Alternative A8 B

Alternative A8 B proposes the construction of habitat transition zones in Pond A8S's southwest corner, southeast corner, or both, depending on the amount of material available.

Ravenswood Ponds

Alternative Ravenswood B

Alternative Ravenswood B would open Pond R4 to tidal flows, improve levees to provide additional flood protection, create habitat transition zone along the western edge of Pond R4, establish managed ponds to improve habitat for diving and dabbling birds, increase pond connectivity, and add a viewing platform to improve recreation and public access.

Alternative Ravenswood C

Alternative Ravenswood C would be similar to Alternative Ravenswood B, with the following exceptions: Ponds R5 and S5 would be converted to a particular type of managed pond that is operated to maintain intertidal mudflat elevation; water control structures would be installed on Pond R3 to allow for improvement to the habitat for western snowy plover; an additional habitat transition zone would be constructed; and two public access and recreational trails and additional viewing platforms would be constructed.

Alternative Ravenswood D

Alternative Ravenswood D would open Pond R4 to tidal flows, improve levees to provide additional flood protection, create two habitat transition zones in Pond R4, establish enhanced managed ponds in Ponds R5 and S5, increase pond connectivity, enhance Pond R3 for western snowy plover habitat, remove the levees within and between Ponds R5 and S5, and improve recreation and public access. Alternative Ravenswood D would also allow temporary stormwater detention into Ponds R5 and S5 via connections with the City of Redwood City's Bayfront Canal and Atherton Channel Project. This would treat a residual salinity problem in Ponds R5 and S5.

Following public review of the Draft EIS/EIR, USFWS and the California State Coastal Conservancy, in coordination with the Project Management Team and other project partners, identified the preferred alternative, which is based on restoration enhancements at all four pond clusters, as well as maintained or increased flood protection and additional public access and recreation features at two of the Phase 2 pond clusters. The preferred alternative is described in Chapter 6 of the Final EIS/EIR. A summary is provided below.

Preferred Alternative: The preferred alternative at each pond cluster is as follows:

• At the Island Ponds it is Alternative Island B, with one restoration component of Alternative Island C included, which is to widen only the westernmost of the two existing breaches on the south side of Pond A19.

• At the Mountain View Ponds it is essentially Alternative Mountain View B, with the substitution of one habitat enhancement (do not include Charleston Slough in tidal marsh restoration but do construct a habitat transition zone across the entire southern extent of Pond A1, but only across central portion of A2W) and the addition of one public access component drawn from Mountain View C (add recreational trail on eastern levee of Pond A2W to the northeast corner of Pond A2W). There is also a modification of one of the flood protection features presented in the two action alternatives (raise the Coast Casey Forebay levee along southern border of Charleston Slough and maintain necessary access to existing utilities adjacent to that levee).

• At the A8 Ponds it is Alternative A8 B, except that the top elevation of the proposed transition zones has been increased to provide greater erosion protection.

• At the Ravenswood Ponds it is similar to Alternative Ravenswood B, in its restoration goals and features for Ponds R3, R4, R5, and S5, but it also includes an additional habitat transition zone and a trail on the eastern edge of Ponds R5 and S5, all of which were included in Alternatives Ravenswood C and D.

Selected Alternative

The ROD identifies the preferred alternative as the selected alternative. This alternative is also the environmentally preferred alternative. The basis for the decision, descriptions of the alternatives considered, an overview of the measures to be implemented to avoid and minimized environmental effects, and a summary of the public involvement process are provided in the ROD.

Authority

We publish this notice under the authority of the National Environmental Policy Act (42 U.S.C. 4371 et seq.) and the Department of Interior's implementing regulations in title 43 of the Code of Federal Regulations (43 CFR part 46).

Jody Holzworth,
Acting Regional Director, Pacific Southwest Region.

[FR Doc. 2018-22763 Filed 10-18-18; 8:45 am]

BILLING CODE 4333-15-P